DEPARTMENT OF HOMELAND SECURITY

Transportation Security Administration

Intent To Request Approval From OMB of One New Public Collection of Information: Airport Federalization

AGENCY: Transportation Security Administration, DHS.

ACTION: 60-day notice.

SUMMARY: The Transportation Security Administration (TSA) invites public comment on a new Information Collection Request (ICR) (abstracted below) that we will submit to the Office of Management and Budget (OMB) for approval in compliance with the Paperwork Reduction Act (PRA). The ICR describes the nature of the information collection and its expected burden. The collection involves the airport operator submitting a Statement of Interest (SOI) and a Federalization Request Letter (FRL) to request that TSA provide passenger and baggage screening services, that is, “Federalization” of an airport.

DATES: Send your comments by February 14, 2011.

ADDRESSES: Comments may be e-mailed to TSAPRA@dhs.gov or delivered to the TSA PRA Officer, Office of Information Technology (OIT), TSA-11, Transportation Security Administration, 601 South 12th Street, Arlington, VA 20598-6011.

FOR FURTHER INFORMATION CONTACT: Joanna Johnson at the above address, or by telephone (571) 227-3651.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Purpose and Description of Data Collection

The FRL is a formal request submitted to the local TSA Federal Security Director (FSD) by management at an airport seeking Federalization of the airport by TSA. The SOI is an enclosure with the FRL and contains information required by TSA to evaluate the request and to begin the Federalization process. The FSD will assist the airport operator in completing the FRL and SOI.

The airport operator seeks airport Federalization in order to support regularly scheduled passenger or public charter service by aircraft operators operating under a full security program under 49 CFR 1544.101(a) or foreign air carriers operating under a security program under 49 CFR 1546.101(a) or (b), which require passenger and baggage screening to be conducted by TSA using either TSA employees or TSA contractors. The SOI provides TSA with information on the background of the requesting airport, including the current status of regularly scheduled passenger or public charter air service, as well as the types of aircraft expected and planned flight schedule of regularly scheduled passenger or public charter air service.

TSA receives approximately 10 Federalization requests per year. TSA expects that preparation of the FRL and SOI by the airport operator will take approximately one hour. The airport will be required to submit this information only one time concerning that request.

Use of Results

TSA Headquarters and local FSDs will use these results to evaluate the airport operator's request and determine whether the operations of the aircraft operators and foreign air carriers regularly served by that airport operator warrant Federalization. This information will allow TSA Headquarters to properly identify the security needs and planning activities required at the local level.

This evaluation is not classified and ordinarily does not involve sensitive security information or proprietary information. If an airport is Federalized, it must develop a complete airport security program in accordance with 49 CFR part 1542 that must be approved by the FSD prior to commencing commercial flight operations as a Federalized airport.

Issued in Arlington, Virginia, on December 10, 2010.
Joanna Johnson,
TSA Paperwork Reduction Act Officer, Office of Information Technology.

[FR Doc. 2010-31532 Filed 12-14-10; 8:45 am]

BILLING CODE 9110-05-P